DEPARTMENT OF VETERANS AFFAIRS

Advisory Committee on Prosthetics and Special-Disabilities Programs, Notice of Meeting

The Department of Veterans Affairs (VA) gives notice under the Federal Advisory Committee Act, 5 U.S.C. ch. 10, that the Advisory Committee on Prosthetics and Special-Disabilities Programs will meet on October 17-18, 2023. The meeting sessions will begin at 8:30 a.m. EST and end at 4:30 p.m. EST on both days.

The meeting will be a hybrid meeting, held in-person at the Lafayette Building, 811 Vermont Avenue NW, Room 3611, Washington, DC and virtually via WebEx conferencing. All sessions will be open to the public. The public is invited to attend the meeting virtually on both days via WebEx conferencing at the following URLs: https://veteransaffairs.webex.com/veteransaffairs/j.php?MTID=mdfec97ed00815c7ad1e2eb35d1f55dbc or join by phone 14043971596 USA Toll Number; meeting number (access code): 2762 349 6847. Meeting password GeMey5yf@33.

The purpose of the Committee is to advise the Secretary of Veterans Affairs on VA's prosthetics programs designed to provide state-of-the-art prosthetics and the associated rehabilitation research, development, and evaluation of such technology. The Committee also provides advice to the Secretary on special-disabilities programs, which are defined as any program administered by the Secretary to serve Veterans with spinal cord injuries, blindness or visual impairments, loss of extremities or loss of function, deafness or hearing impairment, and other serious incapacities in terms of daily life functions.

The Committee will convene in open (hybrid) sessions with introductory remarks from the Committee Chair; the Executive Director for Rehabilitation and Prosthetics; and Department Senior Leaders. The Committee will hear presentations from the following Veterans Health Administration (VHA) National Program Offices: Recreation Therapy and Creative Arts Therapy Service; Blind Rehabilitation Service; Prosthetic and Sensory Aids Service; Audiology and Speech Pathology Service; and the National Veterans Sports Programs and Special Events. The committee will also hear presentations from the PACT Act Team; Workforce Management and Consulting; Geriatrics and Extended Care Service; Patient Centered Care & Cultural Transformation (Whole Health), as well as from the Neurology subcommittees.

The meeting will include time reserved for public comments before the meeting closes on October 18, 2023. Members of the public may submit written statements for review by the Committee in advance of the meeting. Public comments may be received no later than October 11, 2023, for inclusion in the official meeting record. Please send these comments to Dr. Lauren Racoosin, Designated Federal Officer, Rehabilitation and Prosthetic Services, Veterans Health Administration, at Lauren.Racoosin@va.gov.

Dated: September 14, 2023.
LaTonya L. Small,
Federal Advisory Committee Management Officer.

[FR Doc. 2023-20222 Filed 9-18-23; 8:45 am]

BILLING CODE 8320-01-P